DEPARTMENT OF DEFENSE

Office of the Secretary

Defense Science Board

ACTION: Notice of Advisory Committee meeting.

SUMMARY: The Defense Science Board (DSB) Task Force on Unconventional Nuclear Warfare Defense will meet in closed session on July 10-11, 2000, at Strategic Analysis, Inc., 3601 Wilson Boulevard, Suite 500, Arlington, VA. This Task Force will determine the adequacy of DoD's ability to detect, identify, respond, and prevent unconventional nuclear attacks by terrorists or subnational entities, and the appropriate role(s) and capability of DoD to provide protection against unconventional nuclear attacks in support of homeland defense.

The mission of the Defense Science Board is to advise the Secretary of Defense and the Under Secretary of Defense for Acquisition, Technology & Logistics on scientific and technical matters as they affect the perceived needs of the Department of Defense. At these meetings, the Defense Science Board Task Force will review and evaluate the Department's ability to provide information.

In accordance with Section 10(d) of the Federal Advisory Committee Act, Public Law 92-463, as amended (5 U.S.C. App. II, (1994)), it has been determined that these Defense Science Board meetings, concern matters listed in 5 U.S.C. 552b(c)(1) (1994), and that accordingly these meetings will be closed to the public.

Dated: June 22, 2000.
L.M. Bynum,
Alternate OSD Federal Register Liaison Officer, Department of Defense.

[FR Doc. 00-16259 Filed 6-27-00; 8:45 am]

BILLING CODE 5001-10-M